DEPARTMENT OF DEFENSE

Defense Acquisition Regulations System

48 CFR Part 219

RIN 0750-AH60

Defense Federal Acquisition Regulation Supplement; Extension of the Test Program for Negotiation of Comprehensive Small Business Subcontracting Plans (DFARS Case 2012-D026)

AGENCY: Defense Acquisition Regulations System, Department of Defense (DoD).

ACTION: Final rule.

SUMMARY: DoD is issuing a final rule amending the Defense Federal Acquisition Regulation Supplement to extend the program period for the DoD Test Program for Negotiation of Comprehensive Small Business Subcontracting Plans.

DATES: Effective Date: February 24, 2012.

FOR FURTHER INFORMATION CONTACT: Lee Renna, telephone 703-602-0764.

SUPPLEMENTARY INFORMATION:

I. Background

This rule implements section 866 of the National Defense Authorization Act for Fiscal Year 2012, (Pub. L. 112-81). Section 866 amends the DoD Test Program for Negotiation of Comprehensive Small Business Subcontracting Plans, section 834 of Public Law 101-189 (15 U.S.C. 637, note), by extending the duration of the test program for three years from December 31, 2011, through December 31, 2014. This change is implemented at Defense Federal Acquisition Regulation Supplement (DFARS) 219.702(3).

DoD is issuing a final rule because this rule does not have a significant effect beyond the internal operating procedures of DoD and does not have a significant cost or administrative impact on contractors or offerors. This final rule merely extends the effective dates for an existing DoD Program. These dates have already been extended by law.

II. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993. This rule is not a major rule under 5 U.S.C. 804.

III. Regulatory Flexibility Act

The Regulatory Flexibility Act does not apply to this rule because this final rule does not constitute a significant DFARS revision as defined within the meaning at FAR 1.501-1, and 41 U.S.C. 1707 does not require publication for public comment.

IV. Paperwork Reduction Act

The rule does not contain any information collection requirements that require the approval of the Office of Management and Budget under the Paperwork Reduction Act (44 U.S.C. chapter 35).

List of Subjects in 48 CFR Part 219

Government procurement.

Mary Overstreet,
Editor, Defense Acquisition Regulations System.

Therefore, 48 CFR part 219 is amended as follows:

PART 219—SMALL BUSINESS PROGRAMS

1. The authority citation for 48 CFR part 219 continues to read as follows:

Authority: 41 U.S.C. 1303 and 48 CFR chapter 1.

2. In section 219.702, paragraph (3) is added to read as follows:

219.702 Statutory requirements.

* * * * *

(3) The test program for negotiation of comprehensive small business subcontracting plans expires on December 31, 2014.

[FR Doc. 2012-4070 Filed 2-23-12; 8:45 am]

BILLING CODE 5001-06-P